DEPARTMENT OF TRANSPORTATION

Federal Railroad Administration

[Docket Number FRA-2013-0040]

Petition for Waiver of Compliance

In accordance with Part 211 of Title 49 Code of Federal Regulations (CFR), this document provides the public notice that by a document dated April 11, 2013, Canadian Pacific Railway (CP) has petitioned the Federal Railroad Administration (FRA) for a waiver of compliance from certain provisions of the Federal railroad safety regulations contained at 49 CFR part 232, Brake System Safety Standards for Freight and Other NonPassenger Trains and Equipment; End-of-Train Devices. FRA assigned the petition Docket Number FRA-2013-0040.

Specifically, CP requests relief from 49 CFR 232.205(c)(1)(ii)(B), Class I brake tests—initial terminal inspection, and 49 CFR 232.207(b)(1), Class IA brake tests—1,000-mile inspection for trains operating in distributive power (DP) mode. CP requests that FRA allow 90 cubic feet per minute (CFM) instead of 60 CFM airflow method leakage tests on trains operating in DP mode. CP states that it has been operating trains without incident under these conditions in Canada since 2010. CP's testing has demonstrated that: (1) The operation of DP trains with flow up to 90 CFM is safe, and (2) DP operation enhances safer train handling in cold weather. A summary of CP's testing and experience with higher-flow DP trains in Canada is illustrated in an American Society of Mechanical Engineers' (ASME) paper authored by CP and Wabtec Corporation, presented at the ASME/American Society of Civil Engineers/Institute of Electrical and Electronic Engineers 2012 Joint Rail Conference, and placed in the subject docket. CP has also included in its petition the proposed operating rule outlining when and how DP trains will be authorized to use the requested maximum 90 CFM air test criteria.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 28, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 8, 2013.
Robert C. Lauby,
Deputy Associate Administrator for Regulatory and Legislative Operations.

[FR Doc. 2013-11436 Filed 5-13-13; 8:45 am]

BILLING CODE 4910-06-P